OFFICE OF SPECIAL COUNSEL

Privacy Act of 1974; Systems of Records

AGENCY: Office of Special Counsel

ACTION: Notice of systems of records.

SUMMARY: In accordance with the Privacy Act of 1974, as amended, this notice describes two U.S. Office of Special Counsel (OSC) systems of records consisting of internal agency administrative records dealing with employee security and suitability and pay management. The public is invited to comment on these notices.

DATES: Public comments must be received by October 5, 2007. The proposed routine uses will become effective without change and without further notice on October 15, 2007, unless comments are received that result in a contrary determination by OSC.

ADDRESSES: Written comments should be sent by mail to: Office of Special Counsel, 1730 M. Street, NW., Suite 218, Washington, DC 20036-4505, Attention: Kathryn Stackhouse, or by fax to (202) 653-5161, Attn: Kathryn Stackhouse.

FOR FURTHER INFORMATION CONTACT: Kathryn Stackhouse, General Law Counsel, Office of Special Counsel, by telephone at (202) 254-3600 or (800) 877-8339 (TDD), or by fax at (202) 653-5161.

SUPPLEMENTARY INFORMATION: This notice describes two systems of records consisting of internal agency administrative records dealing with employee security and suitability and pay management. Implementation of the system identified in this notice as OSC-2 (Personnel Security Records) will facilitate OSC's collection and management of personnel security information needed to comply with Homeland Security Presidential Directive (HSPD) 12 (“Policy for a Common Identification Standard for Federal Employees and Contractors”), dated August 27, 2004, and implementing guidance issued by the Office of Management and Budget. The records covered by OSC-2 are those dealing with decisions about clearance for access to classified information; suitability, eligibility, and fitness for service of applicants for federal employment and contract positions, including students, interns, volunteers and other individuals to the extent their duties require access to federal facilities, information, systems, or applications. Records covered by the system proposed as OSC-3 (Pay Management Records) are those dealing with pay and leave.

OSC-2

SYSTEM NAME:

Personnel Security Records

SYSTEM LOCATION:

Security Office, U.S. Office of Special Counsel, 1730 M. Street, NW., Suite 218, Washington, DC 20036-4505.

CATEGORIES OF INDIVIDUALS COVERED BY THE SYSTEM:

Individuals who require regular, ongoing access to federal facilities, information technology systems, or information classified in the interest of national security, including applicants for employment or contracts, federal employees, temporary hires, contractors, students, interns (both paid and unpaid), volunteers, affiliates, individuals authorized to perform services provided in OSC facilities (e.g., building security, office cleaning, building contractors, etc.), and individuals formerly in any of these positions. The system also includes individuals accused of security violations or found in violation.

CATEGORIES OF RECORDS IN THE SYSTEM:

Name, former names, birth date, birth place, Social Security number, home address, phone numbers, employment history, residential history, education and degrees earned, names of associates and references and their contact information, citizenship, names of relatives, birthdates and places of relatives, citizenship of relatives, names of relatives who work for the federal government, criminal history, mental health history, drug use, financial information, fingerprints, summary report of investigation, results of suitability decisions, level of security clearance, date of issuance of security clearance, requests for appeal, witness statements, investigator's notes, tax return information, credit reports, security violations, circumstances of violation, and agency action taken; Standard Forms SF-85, SF-85P, SF-86, SF-86C, SF-87, FD-258.

AUTHORITY FOR MAINTENANCE OF THE SYSTEM:

Depending upon the purpose of the investigation, the U.S. government is authorized to ask for this information under Executive orders 10450, 10865, 12333, and 12356; 5 U.S.C. 3301 and 9101; 42 U.S.C. 2165 and 2201; 50 U.S.C. 781-887; 5 C.F.R. parts 5, 732, and 736; and HSPD 12.

PURPOSES:

The records in this system of records are used to document and support decisions about clearance for access to classified information, the suitability, eligibility, and fitness for service of applicants for federal employment and contract positions, including students, interns, volunteers and other individuals to the extent their duties require access to federal facilities, information, systems, or applications. The records may be used to document security violations and supervisory actions taken.

ROUTINE USES OF RECORDS MAINTAINED IN THE SYSTEM, INCLUDING CATEGORIES OF USERS AND THE PURPOSES OF SUCH USES:

When determined by OSC that disclosure of a record is a use of information in the record compatible with the purpose for which the record was collected -

a. To the Department of Justice (DOJ) when:

(1) The OSC, or

(2) Any employee of the OSC in his or her official capacity, or

(3) Any employee of the OSC in his or her individual capacity when the DOJ has been asked, or has agreed, to represent the employee, or

(4) The United States, when the OSC determines that litigation is likely to affect the agency, is a party to litigation, or has an interest in such litigation, and the use of such records by the DOJ is deemed by the OSC to be relevant and necessary to the litigation.

b. To a court or adjudicative body in a proceeding, when:

(1) The OSC, or

(2) Any employee of the OSC in his or her official capacity,

(3) Any employee of the OSC in his or her individual capacity when the OSC has agreed to represent the employee, or

(4) The United States, when the OSC determines that litigation is likely to affect the OSC, is a party to litigation or has an interest in such litigation, and the use of such records by the DOJ is deemed by the OSC to be relevant and necessary to the litigation.

c. Except as noted on Standard Forms SF 85, 85-P, 86, and 86-C, when a record, alone or in conjunction with other records, indicates a violation or potential violation of law, whether civil, criminal, or regulatory in nature, and whether arising by general statute or particular program statute, or by regulation, rule, or order issued pursuant to such a statute, to the appropriate public authority, whether federal, state, local, foreign, tribal, or otherwise, responsible for enforcing, investigating or prosecuting such violation or charged with enforcing or implementing the statute, or rule, regulation, or order issued pursuant to the statute, if the information disclosed is relevant to any enforcement, regulatory, investigative or prosecutorial responsibility of the receiving entity.

d. To a congressional office in response to an inquiry from that office made at the written request of the constituent about whom the record is maintained.

e. To the National Archives and Records Administration (NARA) for records management functions authorized by laws, regulations, and policies governing NARA operations and agency records management responsibilities.

f. To agency contractors, experts, consultants, detailees, or non-OSC employees performing or working on a contract, service, or other activity related to the system of records, subject to the requirements of the Privacy Act, when necessary to accomplish an agency function related to the system of records.

g. To any source or potential source from which information is requested in the course of an investigation concerning the retention of an employee or other personnel action (other than hiring), or the retention of a security clearance, contract, grant, license, or other benefit, to the extent necessary to identify the individual, inform the source of the nature and purpose of the investigation, and to identify the type of information requested.

h. To a federal, state, local, foreign, or tribal or other public authority the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another federal agency for criminal, civil, administrative personnel or regulatory action.

i. To the news media or the general public, factual information the disclosure of which would be in the public interest and which would not constitute an unwarranted invasion of personal privacy, consistent with Freedom of Information Act standards.

j. To a federal, state, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

k. To the Office of Management and Budget (OMB) when necessary to the review of private relief legislation pursuant to OMB Circular No. A-19.

l. To appropriate agencies, entities, and persons when: (1) The OSC suspects or has confirmed that the security or confidentiality of information in the system of records has been compromised; (2) the OSC has determined that as a result of the suspected or confirmed compromise there is a risk of harm to economic or property interests, identity theft or fraud, or harm to the security or integrity of this system or other systems or programs (whether maintained by the OSC or another agency or entity) that rely upon the compromised information; and (3) the disclosure made to such agencies, entities, and persons is reasonably necessary to assist in connection with OSC efforts to respond to the suspected or confirmed compromise and prevent, minimize, or remedy such harm.

POLICIES AND PRACTICES FOR STORING, RETRIEVING, ACCESSING, RETAINING AND DISPOSING OF RECORDS IN THE SYSTEM:

STORAGE:

Records are stored on paper in a secure location on government premises.

RETRIEVABILITY:

Background investigation files are retrieved by name.

SAFEGUARDS:

Records are kept in a locked metal file cabinet in a lockable room at the OSC office responsible for suitability determinations. Access to the records is limited to those employees who have a need for them in the performance of their official duties.

RETENTION AND DISPOSAL:

Records in the system are retained and disposed of in accordance with General Records Schedule 18, item 22a, issued by NARA. The records are disposed of in accordance with OSC's disposal policies which call for shredding. Records are destroyed upon notification of death or not later than six months after separation or transfer of employee to another agency or department, whichever is applicable.

SYSTEM MANAGER AND ADDRESS:

Security Officer, U.S. Office of Special Counsel, 1730 M. Street, NW., Suite 218, Washington, DC 20036-4505.

NOTIFICATION PROCEDURES:

Individuals who wish to inquire whether this system contains information about them should contact the Privacy Act Officer, U.S. Office of Special Counsel: (1) by mail at: 1730 M. Street, NW., Suite 218, Washington, DC 20036-4505; (2) by telephone at: 202-254-3600; or (3) by fax at: 202-653-5161. To assist in the process of locating and identifying records, individuals should furnish the following:

a. Name and home address;

b. Business title and address;

c. A description of the circumstances under which records may have been included in the system; and

d. Any other information deemed necessary by OSC to properly process the request.

RECORDS ACCESS PROCEDURES:

Same as notification procedures. Requesters should also reasonably specify the record contents being sought. Rules about access to Privacy Act records appear in 5 C.F.R. part 1830.

CONTESTING RECORD PROCEDURES:

Individuals who wish to contest records about themselves should contact the OSC Privacy Act Officer, identify any information they believe should be corrected, and furnish a statement of the basis for the requested correction along with all available supporting documents and materials. See OSC Privacy Act regulations at 5 C.F.R. part 1830.

RECORD SOURCE CATEGORIES:

Information is obtained from a variety of sources including the employee, contractor, or applicant through use of the SF-85, SF-85P, SF-86, or SF-86C and personal interviews; employers' and former employers' records; FBI criminal history records and other databases; financial institutions and credit reports; medical records and health care providers; educational institutions; interviews of witnesses such as neighbors, friends, co-workers, business associates, teachers, landlords, or family members; tax records; and other public records. Security violation information is obtained from a variety of sources, such as guard reports, security inspections, witnesses, supervisor's reports, audit reports.

EXEMPTIONS CLAIMED FOR THE SYSTEM:

Upon publication of a final rule in the Federal Register, this system of records will be exempt in accordance with 5 U.S.C. 552a(k)(5). Information will be withheld to the extent it identifies witnesses promised confidentiality as a condition of providing information during the background investigation.

OSC-3

SYSTEM NAME:

Pay Management Records

SYSTEM LOCATION:

Human Resources Branch, U.S. Office of Special Counsel, 1730 M. Street, NW., Suite 218, Washington, DC 20036-4505, and in the offices of other federal agencies or entities retained by OSC to provide administrative processing services, including associated budget, accounting, audit, and other oversight functions.

CATEGORIES OF INDIVIDUALS COVERED BY THE SYSTEM:

Current and former OSC employees, including consultants.

CATEGORIES OF RECORDS IN THE SYSTEM:

This system contains financial information relating to pay, cash awards and leave awards, incentive payments, deductions and payments to other accounts, leave, and time and attendance. This includes, but is not limited to, information such as name, date of birth, social security number, home address, grade, employing organization, salary, pay plan, number of hours worked, leave accrual rate, usage, and balances; Civil Service Retirement System and Federal Employees Retirement System contributions, including Thrift Savings Plan data; Federal Insurance Contributions Act (FICA) withholdings; federal, state, and local tax withholdings; Federal Employee Group Life Insurance (FEGLI) withholdings; Federal Employee Health Benefits (FEHB) withholdings; charitable deductions; allotments to financial organizations; garnishment data; savings bond allotments; deductions for Internal Revenue Service (IRS) levies; court-ordered child support levies; federal salary offset deductions; injury compensation; unemployment compensation; leave transfer program data; direct deposit accounts; time and attendance reports; and leave requests and approvals.

AUTHORITY FOR MAINTENANCE OF THE SYSTEM:

5 U.S.C. 1212, and chapters 55 and 63; 31 U.S.C. 1501(a); and the Personal Responsibility and Work Opportunity Reconciliation Act of 1996 (PRWORA) (Pub. L. 104-193).

PURPOSE:

To administer agency pay and leave functions and obligations.

ROUTINE USES OF RECORDS MAINTAINED IN THE SYSTEM, INCLUDING CATEGORIES OF USERS AND THE PURPOSES OF SUCH USES:

When determined by OSC, or by other agencies or entities retained by OSC to provide administrative processing services, that disclosure of a record is a use of information in the record compatible with the purpose for which the record was collected -

a. To authorized employees of other agencies retained by the OSC to provide administrative processing services, including associated budget, accounting, audit, and other oversight functions.

b. To the Department of the Treasury in connection with issuance of funds electronically and by check, and U.S. Savings Bonds.

c. To the Department of Labor (DOL) in connection with a claim by an employee for compensation based on job-connected injury or illness.

d. To state and District of Columbia offices of unemployment compensation in connection with a claim by a former employee for unemployment compensation.

e. To federal, state, and local tax authorities and the Social Security Administration (SSA) in connection with income tax withholding, FICA tax withholding and other employment tax withholding and benefits.

f. To the Office of Personnel Management (OPM) in connection with payroll deductions for federal employee retirement systems, or otherwise as needed in the performance of its duties.

g. To FEGLI and FEHB plan providers in connection with survivor annuity or health benefits enrollment, claims, or records reconciliation.

h. To the Combined Federal Campaign in connection with authorized payroll deductions for charitable contributions.

i. To banking institutions in enabling individual receipt of payments by direct deposit and electronic funds transfer.

j. To any source from which OSC requests information relevant to an OSC determination about an individual's pay, deductions, reimbursement, leave, or related transaction, to the extent necessary to identify the individual, inform the source of the purpose of the request, and describe the type of information requested.

k. To a congressional office in response to an inquiry from that office made at the written request of the constituent about whom the record is maintained.

l. If the individual to whom the record pertains dies, to the executor or personal representative of the estate of the individual, the individual's designee or designated beneficiary, or next of kin, in connection with estate administration.

m. To the Office of Management and Budget (OMB) when necessary to the review of private relief legislation pursuant to OMB Circular No. A-19.

n. To the Department of Justice (DOJ), OPM, DOL, IRS, or other agency with subject matter expertise to the extent necessary to obtain advice on any authorities, programs, or functions associated with records in this system.

o. When a record, alone or in conjunction with other records, indicates a violation or potential violation of law, whether civil, criminal, or regulatory in nature, and whether arising by general statute or particular program statute, or by regulation, rule, or order issued pursuant to such a statute, disclosure may be made to the appropriate public authority, whether federal, state, local, foreign, or otherwise, responsible for enforcing, investigating or prosecuting such violation or charged with enforcing or implementing the statute, or rule, regulation, or order issued pursuant to the statute, if the information disclosed is relevant to any enforcement, regulatory, investigative or prosecutorial responsibility of the receiving entity.

p. To agency contractors, experts, consultants, detailees, or non-OSC employees performing or working on a contract, service, or other activity related to the system of records, subject to the requirements of the Privacy Act, when necessary to accomplish an agency function related to the system of records.

q. To a federal, state, or local agency requesting information for purposes associated with the hiring or retention of an employee, the conduct of a suitability or security investigation, the issuance of a security clearance, the classification of a job, the letting of a contract, or the issuance of a license, grant or other benefit, to the extent that the information is relevant and necessary to the requesting agency's decision on the matter.

r. To the National Archives and Records Administration (NARA) for records management functions authorized by laws, regulations, and policies governing NARA operations and agency records management responsibilities.

s. To OMB for the purpose of providing reports required of OSC in carrying out OSC's financial and other management functions.

t. To DOJ when:

(1) The OSC, or

(2) Any employee of the OSC in his or her official capacity, or

(3) Any employee of the OSC in his or her individual capacity when the DOJ has been asked, or has agreed, to represent the employee, or

(4) The United States, when the OSC determines that litigation is likely to affect the agency, is a party to litigation, or has an interest in such litigation, and the use of such records by the DOJ is deemed by the OSC to be relevant and necessary to the litigation.

u. To disclose records maintained by the OSC in a proceeding before a court or adjudicative body before which the OSC is authorized to appear, when:

(1) The OSC, or

(2) Any employee of the OSC in his or her official capacity,

(3) Any employee of the OSC in his or her individual capacity when the OSC has agreed to represent the employee, or

(4) The United States, when the OSC determines that litigation is likely to affect the OSC,

v. is a party to litigation or has an interest in such litigation, and the use of such records by the DOJ is deemed by the OSC to be relevant and necessary to the litigation.

w. To disclose information to a grievance or complaint examiner, equal employment opportunity counselor or investigator, or other federal official engaged in investigating, or settling, a grievance, complaint, or appeal filed by an employee, or disciplinary or competence determination proceedings, when the OSC determines that use of such records is relevant and necessary to the matter.

x. To an employer for the purpose of effecting salary or administrative offsets to satisfy a debt owed the United States by the record subject, in accordance with the requirements of federal debt collection laws.

y. To a court of competent jurisdiction, an authorized official, or authorized state agency, as defined in 5 C.F.R. parts 581 and 582, in compliance with orders, interrogatories, and other information requests relevant to garnishment orders with which OSC is required to comply under applicable federal law.

z. To the Department of Health and Human Services child support enforcement office, for the purpose of locating individuals to establish paternity, establishing and modifying orders of child support, identifying sources of income; and for other child support enforcement actions pursuant to the PRWORA, the names, social security numbers, home addresses, dates of birth, dates of hire, quarterly earnings, employer identifying information, and state of hire of employees.

aa. To appropriate agencies, entities, and persons when: (1) the OSC suspects or has confirmed that the security or confidentiality of information in the system of records has been compromised; (2) the OSC has determined that as a result of the suspected or confirmed compromise there is a risk of harm to economic or property interests, identity theft or fraud, or harm to the security or integrity of this system or other systems or programs (whether maintained by the OSC or another agency or entity) that rely upon the compromised information; and (3) the disclosure made to such agencies, entities, and persons is reasonably necessary to assist in connection with OSC efforts to respond to the suspected or confirmed compromise and prevent, minimize, or remedy such harm.

POLICIES AND PRACTICES FOR STORING, RETRIEVING, ACCESSING, RETAINING AND DISPOSING OF RECORDS IN THE SYSTEM:

STORAGE:

These records are maintained in file folders and on electronic media, including at such other agency or entity as the OSC may retain to provide administrative processing services, including associated budget, accounting, audit, and other oversight functions.

RETRIEVABILITY:

Files in this system of records are retrieved by the names of individuals, and when accessed electronically, by Social Security number.

SAFEGUARDS:

Records in file folders are stored by the OSC in secured areas on government premises. Records on computers may only be accessed by those authorized personnel who have a need for access to perform their duties, or to those individuals on whom the record is maintained. Electronic records are only accessible using passwords and other system protection methods.

RETENTION AND DISPOSAL:

These records are kept by OSC in accordance with retention periods for such records established by NARA in applicable General Records Schedules.

SYSTEM MANAGER AND ADDRESS:

Director, Human Resources Branch, U.S. Office of Special Counsel, 1730 M. Street, NW., Suite 218, Washington, DC 20036-4505.

NOTIFICATION PROCEDURES:

Individuals who wish to inquire whether this system contains information about them should contact the Privacy Act Officer, U.S. Office of Special Counsel: (1) by mail at: 1730 M. Street, NW., Suite 218, Washington, DC 20036-4505; (2) by telephone at: 202-254-3600; or (3) by fax at: 202-653-5161. To assist in the process of locating and identifying records, individuals should furnish the following:

a. Name and home address;

b. Business title and address;

c. A description of the circumstances under which records may have been included in the system; and

d. Any other information deemed necessary by OSC to properly process the request.

RECORDS ACCESS PROCEDURES:

Same as notification procedures. Requesters should also reasonably specify the record contents being sought. Rules about access to Privacy Act records appear in 5 C.F.R. part 1830.

CONTESTING RECORD PROCEDURES:

Individuals who wish to contest records about themselves should contact the OSC Privacy Act Officer, identify any information they believe should be corrected, and furnish a statement of the basis for the requested correction along with all available supporting documents and materials. See OSC Privacy Act regulations at 5 C.F.R. part 1830.

RECORD SOURCE CATEGORIES:

Information in this system of records is obtained from a number of sources, including the individual to whom the record pertains, officials in OSC, official personnel records at OSC, OPM, IRS, SSA, DOL, and state government offices, and courts.

EXEMPTIONS CLAIMED FOR THE SYSTEM:

OSC reserves the right to assert exemptions for records received from another agency that could be properly claimed by that agency in responding to a request. OSC may, pursuant to subsection (d)(5) of the Privacy Act (5 U.S.C. 552a), refuse access to information compiled in reasonable anticipation of a civil action or proceeding.

Dated: August 29, 2007.
James Byrne,
Deputy Special Counsel.

[FR Doc. E7-17496 Filed 9-4-07; 8:45 am]

BILLING CODE 7405-01-S